POSTAL SERVICE

39 CFR Part 111

USPS Marketing Mail Content Standards

AGENCY: Postal Service™.

ACTION: Advance notice of proposed rulemaking; request for comments.

SUMMARY: The Postal Service is contemplating amendment of the Mailing Standards of the United States Postal Service, Domestic Mail Manual (DMM®), to revise content standards for USPS Marketing Mail® letter-size and flat-size pieces regardless of level of sortation. This proposed change would limit all USPS Marketing Mail, regular and nonprofit, letter-size and flat-size, to content that is only paper-based/printed matter; no merchandise or goods will be allowed of any type regardless of “value.” All items not eligible to be sent as USPS Marketing Mail letter-size or flat-size pieces would need to shift to another product (e.g., Priority Mail®, Parcel Select®) to be mailed. In an effort to obtain as much customer and mailer feedback as possible, the Postal Service will post this advance notice of proposed rulemaking for an extended comment period.

DATES: Comments on this advance notice of proposed rulemaking are due October 22, 2018.

ADDRESSES: Mail or deliver written comments to the Manager, Product Classification, U.S. Postal Service, 475 L'Enfant Plaza SW, Room 4446, Washington, DC 20260-5015. Comments and questions can also be emailed to ProductClassification@usps.gov using the subject line “USPS Marketing Mail Content Eligibility.”

FOR FURTHER INFORMATION CONTACT: Direct questions to Elke Reuning-Elliott by email at elke.reuning-elliott@ups.gov or phone (202) 268-4063.

SUPPLEMENTARY INFORMATION: In order to improve both processing and the delivery of goods and merchandise moving through the mail stream, the Postal Service proposes to limit content in USPS Marketing Mail, regular and nonprofit, letter-size and flat-size pieces, to paper-based/printed matter content. The limitation to non-merchandise, paper-based/printed matter content would serve three goals: (1) Facilitate levels of service expected for the processing and delivery of merchandise that include end-to-end tracking and visibility, (2) move fulfillment of merchandise and goods out of USPS Marketing Mail, consistent with the transfer of fulfillment parcels out of Standard Mail (the predecessor to USPS Marketing Mail) in Docket No. MC2010-36, and (3) reduce operational inefficiencies when machines are unable to process letter-size or flat-size shaped inflexible items. Shifting goods and merchandise out of the letter-size and flat-size categories helps improve processing capabilities and ultimately shifts these items to mail streams with full end-to-end tracking capability consistent with market expectations. The Postal Service has many products available to support this shift and seeks to align postal processing with the intentions of its mailing customers. This shift also simplifies the mailing experience: Letter-size and flat-size pieces will move through processing and delivery more efficiently. Packages with goods and merchandise will have an Intelligent Mail® package barcode (IMpb®) and will travel through the package network stream.

Ruth Stevenson,
Attorney, Federal Compliance.

[FR Doc. 2018-18105 Filed 8-22-18; 8:45 am]

BILLING CODE 7710-12-P